NUCLEAR REGULATORY COMMISSION

10 CFR Part 50

[NRC-2016-0082]

RIN 3150-AJ74

American Society of Mechanical Engineers 2015-2017 Code Editions Incorporation by Reference; Correction

AGENCY: Nuclear Regulatory Commission.

ACTION: Final rule; correction.

SUMMARY: The U.S. Nuclear Regulatory Commission (NRC) is correcting a rule that was published in the Federal Register on May 4, 2020, regarding its regulations to incorporate by reference the 2015 and 2017 Editions of the American Society of Mechanical Engineers Boiler and Pressure Vessel Code and the 2015 and 2017 Editions of the American Society of Mechanical Engineers Operation and Maintenance of Nuclear Power Plants, Division 1: OM Code: Section IST, for nuclear power plants. This action is necessary to correct a code case reference and an amendatory instruction.

DATES: Effective June 3, 2020.

ADDRESSES: Please refer to Docket ID NRC-2016-0082 when contacting the NRC about the availability of information for this action. You may obtain publicly-available information related to this action by any of the following methods:

• Federal Rulemaking Website: Go to https://www.regulations.gov and search for Docket ID NRC-2016-0082. Address questions about NRC dockets to Carol Gallagher; telephone: 301-415-3463; email: Carol.Gallagher@nrc.gov.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• Attention: The Public Document Room (PDR), where you may examine and order copies of public documents is currently closed. You may submit your request to the PDR via email at PDR.Resource@nrc.gov or call 1-800-397-4209 between 8:00 a.m. and 4:00 p.m. (EST), Monday through Friday, except Federal holidays.

FOR FURTHER INFORMATION CONTACT: Jill Shepherd, Office of Nuclear Material Safety and Safeguards, U.S. Nuclear Regulatory Commission, Washington, DC 20555-0001; telephone: 301-415-1230; email: Jill.Shepherd@nrc.gov.

SUPPLEMENTARY INFORMATION: In FR Doc. 2020-08855 appearing on page 26576 in the Federal Register of Monday, May 4, 2020, the following corrections are made:

§ 50.55a [Corrected]

1. On page 26576, in the first column, instruction 2.j. is corrected to read “Revise paragraphs (a)(1)(iv)(C)(1) through (3);”;

2. On page 26580, in the first column, in paragraph (g)(6)(ii)(D)(3) the phrase “ASME BPV Code Case N-729-4” is corrected to read “ASME BPV Code Case N-729-6”.

Dated May 13, 2020.
For the Nuclear Regulatory Commission.
Cindy K. Bladey,
Chief, Regulatory Analysis and Rulemaking Support Branch, Division of Rulemaking, Environmental, and Financial Support, Office of Nuclear Material Safety and Safeguards.

[FR Doc. 2020-10716 Filed 6-2-20; 8:45 am]

BILLING CODE 7590-01-P